DEPARTMENT OF THE TREASURY

Office of Foreign Assets Control

Sanctions Actions Pursuant to the Foreign Narcotics Kingpin Designation Act and Executive Order 12978

AGENCY: Office of Foreign Assets Control, Treasury.

ACTION: Notice.

SUMMARY: The U.S. Department of the Treasury's Office of Foreign Assets Control (OFAC) is publishing the names of 19 persons whose property and interests in property have been unblocked pursuant to the Foreign Narcotics Kingpin Designation Act (Kingpin Act), 21 U.S.C. 1901-1908, or Executive Order 12978 of October 21, 1995, “Blocking Assets and Prohibiting Transactions With Significant Narcotics Traffickers”. Additionally, OFAC is publishing an update to the identifying information of two persons currently included in the list of Specially Designated Nationals and Blocked Persons (SDN List).

DATES: OFAC's actions described in this notice were effective on February 23, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On February 23, 2017, OFAC removed from the SDN List the persons listed below, whose property and interests in property were blocked pursuant to section 805(b) of the Kingpin Act or Executive Order 12978.

Individuals

1. BORRAYO LASMIBAT, Hayron Eduardo (a.k.a. BORRAYO LISMIBAT, Eduardo); DOB 03 May 1972; citizen Guatemala; Passport 22222838 (individual) [SDNTK].

2. CIFUENTES VARGAS, Carmen Viviana, c/o INVERSIONES EN GANADERIA JESSICA, Cali, Colombia; DOB 19 Jun 1964; POB Buga, Valle, Colombia; Cedula No. 38863513 (Colombia); Passport PO67538 (Colombia) (individual) [SDNT].

3. CUELLAR SILVA, John Fredy, Calle Paseo Royal Country 5598-23, Fraccionamiento Royal Country, Zapopan, Jalisco, Mexico; Lopez Cotilla 100 Centro, Guadalajara, Jalisco C.P. 44100, Mexico; DOB 17 May 1976; POB Florencia, Caqueta, Colombia; Cedula No. 79904164 (Colombia); R.F.C. CUSJ760517HNE (Mexico) (individual) [SDNTK] (Linked To: AGRO Y COMERCIO DE SANTA BARBARA LAGROMER S. EN C.; Linked To: COMPANIA AGRO COMERCIAL CUETA S. EN C.; Linked To: INVERSIONES HUNEL LTDA.; Linked To: CASA COMERCIAL ORO RAPIDO; Linked To: PRENDA TODO, S.A. DE C.V.).

4. GUTIERREZ MOLINA, Diego Armando, c/o INVERSIONES GANADERAS Y PALMERAS S.A., Bogota, Colombia; c/o INVERSIONES GANAGRO LTDA., Villavicencio, Colombia; c/o INVERSIONES TALADRO LTDA., Villavicencio, Colombia; DOB 20 Jun 1987; POB Bogota, Colombia; Cedula No. 1032390133 (Colombia) (individual) [SDNTK].

5. LOZADA PABON, Julio Cesar, c/o AGROGANADERA LA FORTALEZA, Monterrey, Meta, Colombia; Carrera 51 No. 122-09 Apto. 102, Bogota, Colombia; Cedula No. 17323068 (Colombia) (individual) [SDNTK].

6. MARQUEZ GALLEGOS, Ma Elena (a.k.a. MARQUEZ GALLEGOS, Maria Elena), Albino Aranda 3525, Guadalajara, Jalisco 44690, Mexico; Pablo Casals # 240-24, Col. Prados Providencia, Guadalajara, Jalisco 44680, Mexico; DOB 15 Mar 1965; POB Santa Maria de los Angeles, Jalisco, Mexico; C.U.R.P. MAGE650315MJCRLL03 (Mexico) (individual) [SDNTK] (Linked To: DILAVA; Linked To: GRUPO DIJEMA, S.A. DE C.V.).

7. MEJIA ZULUAGA, Omar, Carrera 7 No. 62-43 Ap. 802, Bogota, Colombia; Carrera 14A No. 151A-06 Ap. 4-104, Bogota, Colombia; Carrera 19A No. 102-70, Bogota, Colombia; c/o AS INVERSIONES S.A., Bogota, Colombia; c/o CBM DE COLOMBIA S.A., Bogota, Colombia; c/o PRODUCTOS KIBONY S.A.S., Bogota, Colombia; c/o T & T ANDINA S.A., Bogota, Colombia; c/o C.I. PLANETA COMERCIAL S.A., Bogota, Colombia; c/o FEDERAL CAPITAL GROUP, S.A., Panama City, Panama; DOB 18 Jan 1956; POB Villahermosa, Tolima, Colombia; Cedula No. 19316392 (Colombia) (individual) [SDNTK].

Entities

1. AGROGANADERA LA FORTALEZA, Finca La Fortaleza, Monterrey, Meta, Colombia; Transversal 25 No. 41A-05, Villavicencio, Colombia; Matricula Mercantil No 158119 (Colombia) [SDNTK].

2. AS INVERSIONES S.A., Carrera 14A No. 151A-06 T4 104, Bogota, Colombia; NIT # 800224826-0 (Colombia) [SDNTK].

3. BINGOTON MILLONARIO, Sarafi 3 Avenida 13-46 Zona 1, Guatemala, Guatemala [SDNTK].

4. C.I. PLANETA COMERCIAL S.A., Carrera 11 No. 67-63 Piso 2, Bogota, Colombia; NIT # 830079228-3 (Colombia) [SDNTK].

5. CASA COMERCIAL ORO RAPIDO, Cra. 11 # 13-28, Girardot, Cundinamarca, Colombia; Matricula Mercantil No 19022 (Colombia) [SDNTK].

6. CBM DE COLOMBIA S.A., Carrera 35A No. 62-32, Bogota, Colombia; NIT # 830072893-1 (Colombia) [SDNTK].

7. COLOMBIANA DE BIOCOMBUSTIBLES S.A. (a.k.a. COLBIO), Carrera 15 No. 90-66 Int. 103, Medellin, Colombia; Calle 36A Sur No. 46A-81, Centro Comercial Metro Sur, Local 240, Envigado, Antioquia, Colombia; Km. 53 Via Santa Fe de Antioquia, Vereda Ahuyamal, Sopetran, Antioquia, Colombia; Km. 4 Via al Bagre, Caucasia, Antioquia, Colombia; Web site www.colbio.com; NIT # 900089105-2 (Colombia) [SDNTK].

8. DILAVA, Pablo Casals # 240-24, Col. Prados Providencia, Guadalajara, Jalisco 44680, Mexico; Torre Medica San Javier, Consultorio 307, Quebec 631, Col. Providencia, Guadalajara, Jalisco, Mexico; Web site http://esteticavaginal.com.mx [SDNTK].

9. INVERSIONES EN GANADERIA JESSICA, Carrera 10 Este No. 7-11, Cali, Colombia; Matricula Mercantil No 281899-1 (Colombia) [SDNT].

10. PRODUCTOS KIBONY S.A.S., Carrera 35A No. 62-32, Bogota, Colombia; NIT # 830052461-6 (Colombia) [SDNTK].

11. REVOLUCIONES POR MINUTO ACELERACION S.A. (a.k.a. RPM ACELERACION), 20 Calle 26-30, Zona 10, Guatemala, Guatemala; NIT # 3197607-7 [SDNTK].

12. T & T ANDINA S.A., Carrera 69D No. 31-10, Bogota, Colombia; NIT # 830089233-3 (Colombia) [SDNTK].

Additionally, on February 23, 2017, OFAC updated the SDN List for the persons listed below, whose property and interests in property continue to be blocked pursuant to the Kingpin Act or Executive Order 12978.

1. BEDOYA LOPEZ, Gildardo de Jesus; DOB 18 Dec 1963; POB Abejorral, Antioquia, Colombia; citizen Colombia; Cedula No. 70560012 (Colombia) (individual) [SDNTK] (Linked To: REPRESENTACIONES MIDAS; Linked To: GARCES Y BEDOYA CIA. LTDA).

2. GRAJALES PUENTES, Diana Carolina, Transversal 13A No. 123-10 Int. 2 apt. 203, Bogota, Colombia; DOB 15 Mar 1979; POB La Victoria, Valle, Colombia; Cedula No. 52455790 (Colombia) (individual) [SDNT] (Linked To: SALIM S.A.; Linked To: HEBRON S.A.; Linked To: INDUSTRIAS DEL ESPIRITU SANTO S.A.; Linked To: JOSAFAT S.A.; Linked To: DOXA S.A.; Linked To: CITICAR LTDA.; Linked To: AGROPECUARIA EL NILO S.A.).

Dated: February 23, 2017.
Gregory T. Gatjanis,
Associate Director, Office of Global Targeting, Office of Foreign Assets Control.

[FR Doc. 2017-04097 Filed 3-2-17; 8:45 am]

BILLING CODE 4810-AL-P